DEPARTMENT OF HOUSING AND URBAN DEVELOPMENT

[Docket No. FR-7024-N-20]

30-Day Notice of Proposed Information Collection: Disaster Recovery Grant Reporting System (OMB Control No. 2506-0165)

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: June 8, 2020.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on January 28, 2020.

A. Overview of Information Collection

Title of Information Collection: Disaster Recovery Grant Reporting System (DRGR).

OMB Approval Number: 2506-0165.

Type of Request: Extension of currently approved collection.

Form Number: SF-424 Application for Federal Assistance.

Description of the need for the information and proposed use: The Disaster Recovery Grant Reporting (DRGR) System is a grants management system used by the Office of Community Planning and Development to monitor special appropriation grants under the Community Development Block Grant program. This collection pertains to Community Development Block Grant Disaster Recovery (CDBG-DR) and Neighborhood Stabilization Program (NSP) grant appropriations.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

DRGR is used to monitor CDBG-DR, NSP, and NSP-TA grants, as well as several programs that do not fall under the Office of Block Grant Assistance. Separate information collections have been submitted and approved for these programs. CDBG-DR and NSP grant funds are made available to states and units of general local government, Indian tribes, and insular areas, unless provided otherwise by supplemental appropriations statute. NSP-TA grant funds are awarded on a competitive basis and are open to state and local governments, as well as non-profit groups and consortia that may include for-profit entities.

Information collection | Number of respondents | Frequency of response | Responses per annum | Burden hour per response | Annual burden hours | Hourly cost per response | Annual cost
CDBG-DR | 729.00 | 12.58 | 9,174.00 | 2.68 | 24,592.14 | $26.45 | $650,462.10
NSP | 1,096.00 | 21.00 | 23,016.00 | 0.54 | 12,516.32 | 26.45 | 331,056.66
NSP 3 TA | 62.00 | 21.50 | 1,333.00 | 1.09 | 1,452.04 | 26.45 | 38,406.46
RC & Section 4 | 94.00 | 4.60 | 432.00 | 1.46 | 632.00 | 37.70 | 23,826.40
Total | 1,981.00 |  | 33,955.00 |  | 39,193.00 |  | 1,043,764.85

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of

information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: April 28, 2020.
Anna P. Guido,
Department Reports Management Officer, Office of the Chief Information Officer.

[FR Doc. 2020-09775 Filed 5-6-20; 8:45 am]

BILLING CODE 4210-67-P